DEPARTMENT OF HOMELAND SECURITY

Coast Guard

33 CFR Part 117

[Docket No. USCG-2013-0082]

Drawbridge Operation Regulations; Cheesequake Creek, Morgan, NJ

AGENCY: Coast Guard, DHS.

ACTION: Notice of temporary deviation from regulation.

SUMMARY: The Coast Guard has issued a temporary deviation from the regulation governing the operation of the New Jersey Transit Rail Operation (NJTRO) Railroad Bridge across Cheesequake Creek, mile 0.2, at Morgan, New Jersey. Under this temporary deviation, the bridge may remain in the closed position for three weekends to facilitate scheduled bridge repairs.

DATES: This deviation is effective from 6 a.m. on March 2, 2013, until 4 p.m. on March 3, 2013; from 6 a.m. on March 9, 2013, until 4 p.m. on March 10, 2013; and from 6 a.m. on March 16, 2013, until 4 p.m. on March 17, 2013.

ADDRESSES: The docket for this deviation, [USCG-2013-0082] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Joe Arca, Project Officer, First Coast Guard District, joe.m.arca@uscg.mil, or (212) 668-7165. If you have questions on viewing the docket, call Barbara Hairston, Program Manager, Docket Operations, telephone 202-366-9826.

SUPPLEMENTARY INFORMATION: The NJTRO railroad bridge has a vertical clearance of 3 feet at mean high water, and 8 feet at mean low water in the closed position. The existing drawbridge operating regulations are found at 33 CFR 117.709(b).

The bridge owner, New Jersey Transit Rail Operations (NJTRO), requested a bridge closure to facilitate structural and track repairs at the bridge.

Under this temporary deviation, the NJTRO railroad bridge may remain in the closed position on three consecutive weekends, from 6 a.m. on March 2, 2013, until 4 p.m. on March 3, 2013, from 6 a.m. on March 9, 2013 until 4 p.m. on March 10, 2013, and from 6 a.m. on March 16, 2013, until 4 p.m. on March 17, 2013.

In the event weather conditions are favorable during the first two weekends, the third weekend may be unnecessary. In that event, the bridge would return to its regular operating schedule during the third weekend.

Cheesequake Creek is predominantly a recreational waterway. The bridge rarely opens in the winter months when this temporary deviation will be in effect.

In accordance with 33 CFR 117.35(e), the bridge must return to its regular operating schedule immediately at the end of the designated repair period. This deviation from the operating regulations is authorized under 33 CFR 117.35.

Dated: February 21, 2013.
Gary Kassof,
Bridge Program Manager, First Coast Guard District.

[FR Doc. 2013-04988 Filed 3-4-13; 11:15 am]

BILLING CODE 9110-04-P